DEPARTMENT OF ENERGY

Federal Energy Regulatory Commission

[FERC Docket Nos. CP01-22-000 and CP01-23-000; CSLC EIR No. 703; State Clearinghouse No. SCH2001011020; BLM Reference No. CACA-42662]

North Baja Pipeline, LLC; Supplement to the Notice of Intent/Preparation to Prepare a Joint Environmental Impact Statement/Report for the Proposed North Baja Pipeline Project and Request for Comments on Environmental Issues Related to the Bureau of Land Management's Consideration of an Amendment to the Yuma Resource Management Plan

May 16, 2001.

On December 12, 2000, the Federal Energy Regulatory Commission (FERC or Commission) and the California State Lands Commission (CSLC) issued a Notice of Intent/Preparation (NOI/NOP) to jointly prepare an environmental impact statement/report (EIS/EIR) that will discuss the environmental impacts of North Baja Pipeline, LLC's (NBP) proposed North Baja Pipeline Project in La Paz County, Arizona, and Riverside and Imperial Counties, California. The FERC will be the lead Federal agency in the preparation of the EIS/EIR while the CSLC will be the State Lead Agency for California. The joint document will satisfy the requirements of both the National Environmental Policy Act (NEPA) and the California Environmental Quality Act.

The North Baja Pipeline Project would involve the construction and operating of a new 18,810-horsepower compressor station in La Paz County, Arizona, and about 80.0 miles of 36- and 30-inch-diameter pipeline extending from an interconnection with El Paso Natural Gas Company in La Paz County, Arizona, through Riverside and Imperial Counties, California, to an interconnection at the international border between the United States and Mexico. A total of 48.2 miles of the proposed pipeline and one new meter station would be on lands managed by the Bureau of Land Management (BLM) under the jurisdiction of the Palm Springs, El Centro, and Yuma Field Offices. The BLM has agreed to meet its NEPA responsibilities in considering NBP's application to cross these Federal lands by participating as a cooperating agency in the preparation of the EIS/EIR.

The December 12, 2000 NOI/NOP stated that the BLM will use the EIS/EIR to consider a plan amendment, which may be necessary for pipeline construction outside of the designated utility corridors as described in the California Desert Conservation Area Plan, 1980 (as amended). The BLM has recently informed us that it will also use the EIS/EIR to consider an amendment to the Yuma Resource Management Plan (RMP), which may be necessary for pipeline construction across the Milpitas Wash Special Management Area.

By this notice, we ¹ are specifically seeking public comments on the BLM's consideration of an amendment to the Yuma RMP. This supplemental NOI/NOP does not reopen the general scoping period for the EIS/EIR. Please carefully follow the instructions below to ensure that your comments are received in time and properly recorded.

¹ “We,” “us,” and “our” refer to the staff of the FERC's Office of Energy Projects and the CSLC.

• Send an original and two copies of your letter to: David P. Boergers, Secretary, Federal Energy Regulatory Commission, 888 First St., N.E., Room 1A, Washington, DC 20426;

• Reference Docket No. CP01-22-000;

• Label one copy of you comments for the attention of the Gas Group 1, PJ-11.1;

• Send an additional copy of your letter to the following individual: Goodyear K. Walker, California State Lands Commission, 100 Howe Ave., Suite 100 South, Sacramento, CA 95825;

• Mail your comments so that they will be received in Washington, DC on or before June 18, 2001.

Comments, protests and interventions may also be filed electronically via the internet in lieu of paper. See 18 CFR 385.2001(a)(1)(iii) and the instructions on the Commission's website at http://www.ferc.fed.us/efi/doorbell.htm under the link to the User's Guide. Before you can file comments you will need to create an account by clicking on “Login to File” and then “New User Account.”

Availability of Additional Information

Additional information abut the proposed project is available from the Commission's Office of External Affairs at (202)208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS Menu, and follow the instructions. For assistance with access to CIPS, the CIPS helpline can be reached at (202) 208-2474.

Information concerning the involvement of the CSLC in the EIS/EIR process may be obtained from Kirk Walker, EIR Project Manager, at (916) 574-1893, or on the California State Lands website at http://www.slc.ca.gov.

Information concerning the involvement of the BLM in the EIS/EIR process may be obtained from Lynda Kastoll, Project Manager at (760) 337-4421, or on the BLM website at http://www.ca.blm.gov/elcentro.

Linwood A. Watson, Jr.,
Acting Secretary.

[FR Doc. 01-12788 Filed 5-21-01; 8:45 am]

BILLING CODE 6717-01-M